DEPARTMENT OF COMMERCE

National Oceanic and Atmospheric Administration

Hydrographic Services Review Panel Meeting for March 9-10, 2022

AGENCY: Office of Coast Survey (OCS), National Ocean Service (NOS), National Oceanic and Atmospheric Administration (NOAA), Department of Commerce (DOC).

ACTION: Announcement for open public meeting and notice of request for public comments.

SUMMARY: Notice of a virtual public meeting for the NOAA Hydrographic Services Review Panel (HSRP) on March 9, 2022, 12:45-5:30 p.m. EST, and March 10, 2022, 1 p.m.-5:30 p.m. EST via webinar. The HSRP agenda will be posted in advance on the HSRP website. Individuals or groups who want to comment on NOAA navigation services topics are encouraged to submit advance public comments and letters via email or via the question function in the webinar.

DATES: NOAA HSRP public virtual meeting will meet via webinar as follows:

1. March 9, 2022, 12:45-5:30 p.m., EST

2. March 10, 2022, 1 p.m.-5:30 p.m., EST

ADDRESSES: You may submit public comments identified by “March 2022 HSRP meeting public comments” in the subject line of the message in advance of the meeting or request to be added to the meeting announcements list by sending an email request to: Virginia.Dentler@noaa.gov, Melanie.Colantuno@noaa.gov, and hydroservices.panel@noaa.gov.

FOR FURTHER INFORMATION CONTACT: Lynne Mersfelder-Lewis, HSRP program manager, Office of Coast Survey, NOS, NOAA, email: hydroservices.panel@noaa.gov, Lynne.Mersfelder@noaa.gov, phone: 240-533-0064.

SUPPLEMENTARY INFORMATION: The webinar advance registration is at: https://attendee.gotowebinar.com/register/4379173811123072784. The HSRP meeting agenda, draft meeting documents, presentations, and background materials are posted and updated online which can be downloaded prior to the meeting at: https://www.nauticalcharts.noaa.gov/hsrp/hsrp.html and https://www.nauticalcharts.noaa.gov/hsrp/meetings.html.

The agenda, speakers, and time are subject to change; please refer to these websites for the most updated information. Past HSRP recommendation letters, issue and position papers are located online at: https://www.nauticalcharts.noaa.gov/hsrp/recommendations.html.

Public comments are encouraged and requested in advance and during the meeting on the navigation, observations, and positioning data, products, and services for NOS' Center for Operational Oceanographic Products and Services, National Geodetic Survey, Office of Coast Survey, and the University of New Hampshire's and NOAA's Joint Hydrographic Center (JHC) and the Center for Coastal and Ocean Mapping. Written statements received in advance of the meeting will be shared with the HSRP members, on the meeting website, and in the meeting public record. Due to the condensed nature of the meeting, each individual or group providing public comments will be limited to one comment of three minutes per public comment period with no repetition of previous comments. Comments can also be submitted in writing during the public comment portion of the webinar. Comments will be read into the record as time allows as well as transcribed and become part of the meeting record. Due to time constraints, all comments may not be addressed during the meeting.

The HSRP is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice.

Matters To Be Considered

The panel is convening on issues relevant to NOAA's navigation, observations and positioning services and suggestions for improvements, including: Data sharing and data licensing especially for bathymetry to use for ocean mapping, charts, modeling, and other NOAA products; bridge heights, datums, and air gap sensors to address safe navigation and the possible technology solutions from the transition to the new National Spatial Reference System (NSRS); and a discussion about the changes to raster paper charts and the improvements to Electronic Navigational Charts (ENC). HSRP regularly discusses stakeholder use of NOAA's navigation, observations and positioning data, products and services, and topics related to hydrographic surveys, nautical charting, coastal shoreline and ocean mapping, the NSRS modernization efforts, navigation services contributions to resilience and coastal data and information systems to support planning for resilience to climate change and sea level rise, contributions to the blue economy, coastal and ocean modeling and remote sensing, PORTS® (Physical Oceanographic Real-Time System) sensor enhancements and expansion, Precision Marine Navigation, the transition from raster paper charts to ENC, the scientific mapping and technology research projects of the cooperative agreements between NOAA and partners at the University of New Hampshire and the University of Southern Florida, and other topics. The meeting may include an update on the plans to address and implement two ocean and coastal mapping strategies—the Alaska Coastal Mapping Strategy (ACMS) and the “Establishing a National Strategy for Mapping, Exploring, and Characterizing the U.S. EEZ” (NOMEC), including the Standard Ocean Mapping Protocol (SOMP). Navigation services include the data, products, and services provided by the NOAA programs and activities that undertake geodetic observations, gravity modeling, coastal and shoreline mapping, bathymetric mapping and modeling, hydrographic surveying, nautical charting, tide and water level observations, current observations, flooding, resilience, inundation and sea level rise, marine and coastal modeling, geospatial and LIDAR data, and related data and topics. This suite of NOAA products and services support safe and efficient navigation, the blue economy, resilient coasts and communities, and the nationwide positioning information infrastructure to support America's climate needs and commerce. The Panel will hear about the missions and uses of NOAA's navigation, observations and positioning services, the value these services bring, and what improvements could be made. Other matters may be considered.

Special Accommodations

This meeting is accessible to people with disabilities and there will be sign language interpretation. Please direct requests for other auxiliary aids to Melanie.Colantuno@noaa.gov at least 10 business days in advance of the meeting.

Rear Admiral (lower half) Benjamin K. Evans,
NOAA Director, Office of Coast Survey, National Ocean Service, National Oceanic and Atmospheric Administration.

[FR Doc. 2022-03312 Filed 2-15-22; 8:45 am]

BILLING CODE 3510-JE-P